FEDERAL ELECTION COMMISSION

Sunshine Act Meeting

AGENCY: Federal Election Commission.

Date and Time: Tuesday, April 25, 2017 at 10:00 a.m. and its continuation at the conclusion of the open meeting on April 27, 2017

Place: 999 E Street NW., Washington, DC.

Status: This meeting will be closed to the public.

Items to be Discussed: Compliance matters pursuant to 52 U.S.C. 30109.

* * * * *

Person to Contact for Information: Judith Ingram, Press Officer, Telephone: (202) 694-1220.

Dayna C. Brown,
Secretary and Clerk of the Commission.

[FR Doc. 2017-08144 Filed 4-18-17; 4:15 pm]

BILLING CODE 6715-01-P